DEPARTMENT OF AGRICULTURE

Submission for OMB Review; Comment Request

February 23, 2000.

The Department of Agriculture has submitted the following information collection requirement(s) to OMB for review and clearance under the Paperwork Reduction Act of 1995, Public Law 104-13. Comments regarding (a) whether the collection of information is necessary for the proper performance of the functions of the agency, including whether the information will have practical utility; (b) the accuracy of the agency's estimate of burden including the validity of the methodology and assumptions used; (c) ways to enhance the quality, utility and clarity of the information to be collected; (d) ways to minimize the burden of the collection of information on those who are to respond, including through the use of appropriate automated, electronic, mechanical, or other technological collection techniques or other forms of information technology should be addressed to: Desk Officer for Agriculture, Office of Information and Regulatory Affairs, Office of Management and Budget (OMB), Washington, DC 20503 and to Departmental Clearance Office, USDA, OCIO, Mail Stop 7602, Washington, DC 20250-7602.

Comments regarding these information collections are best assured of having their full effect if received within 30 days of this notification. Copies of the submission(s) may be obtained by calling (202) 720-6746.

An agency may not conduct or sponsor a collection of information unless the collection of information displays a currently valid OMB control number and the agency informs potential persons who are to respond to the collection of information that such persons are not required to respond to the collection of information unless it displays a currently valid OMB control number.

Forest Service

Title: Application for Prospecting Permit.

OMB Control Number: 0596-0089.

Summary of Collection: The Application for Prospecting Permit, Form FS-2800-14, was developed by Region 1, Forest Service (FS) to obtain better information from applicants requesting permits to conduct geophysical activities on National Forest System lands. These activities are authorized according to 36 CFR Subpart E 228.100 and 228.101 for operations on a lease, 36 CFR 251 Subpart B for operations off a lease, and 36 CFR 251.15 for operations on reserved mineral rights. Geophysical operations are conducted to better understand the Earth's geology and mineral resources. Use of the form will ensure that a complete, concise, site-specific, description of all proposed geophysical activity is obtained. It will ensure timely and effective review and decision-making in compliance with the National Environmental Policy Act (NEPA; 42 USC 452-4347).

Need And Use Of The Information: FS collects the applicant name, address, and company project name and similar information about the geophysical contractor. The information is used by FS to ensure a thorough, accurate, and timely review of the proposed geophysical activity. If complete and accurate information is not collected the environmental analysis and related NEPA documents may be incomplete; permit issuance may be delayed; and, recordkeeping may be incomplete.

Description of Respondents: Business or other for-profit; Non-for-profit institutions.

Number of Respondents: 25.

Frequency of Responses: Reporting: On occasion.

Total Burden Hours: 6.

Emergency approval has been requested by February 14, 2000.

Forest Service

Title: Recreation Fee Permit Envelope.

OMB Control Number: 0596-0106.

Summary of Collection: The Land and Water Conservation Fund Act of 1965, section 4(b), and Forest Service regulations at Title 36, Code of Federal Regulations (CFR), section 291.2 authorize the collection of fees at some of the National Forest and Grassland recreation sites. Every year millions of people visit National Forest System recreations sites. At some of these sites, the public is required to pay a fee to use the site. Fees are charged to cover, as nearly as possible, the costs of operating and maintaining fee sites, areas, and facilities such as campgrounds. The Forest Service (FS) used the Recreation Fee Permit Envelope for collection of these fees. The fee envelope is also used as a tool to collect information from visitors who will assist the FS in improving its facilities and services for future visitors.

Need and use of the Information: FS will collect information to be used for two purposes; First, the information pertaining to the fee (site number, length of stay, amount paid, etc.) will be used to verify the visitor has complied with the fee requirements. Second, visitors will be given the opportunity to provide comments about their visit, the condition of the facilities, and how the FS can improve services to the public. If a visitor elects not to complete the information related to the fee, there will be no way to verify they have paid the required fee.

Description of Respondents: Individuals or households; business or other for-profit; not-for-profit institutions.

Number of Respondents: 500,000.

Frequency of Responses: Reporting: Other (per visit).

Total Burden Hours: 20,000.

Rural Utilities Service

Title: Request for Approval to Sell Capital Assets.

OMB Control Number: 0572-0020.

Summary of Collection: The Rural Utilities Service (RUS) is a credit agency of the U.S. Department of Agriculture (USDA). It makes mortgage loans and loan guarantees to finance electric, telecommunications, and water and waste facilities in rural areas. In addition to providing loans and loan guarantees, one of RUS' main objectives is to safeguard loan security until the loan is repaid. Accordingly, RUS manages loan programs in accordance with the Rural Electrification Act of 1936, 7 U.S.C. 901 et. seq., as amended, (RE ACT) and as prescribe by Office of Management and Budget (OMB) Circular A-129, Policies for Federal Credit Programs and Non-Tax Receivables, which states that agencies must, based on a review of a loan application, determine that an applicant complies with statutory, regulatory, and administrative eligibility requirements for loan assistance. RUS will collect information using form RUS 369.

Need and use of the Information: RUS will collect information to determine whether or not the agency should approve a sale and also to keep track of what property exists to secure the loan. If the information in Form 369 is not collected when capital assets are sold, the capital assets securing the Government's loans could be liquidated and the Government's security either eliminated entirely or diluted to an undesirable level.

Description of Respondents: Not-for-profit institutions; business or other for-profit.

Number of Respondents: 5.

Frequency of Responses: Recordkeeping; Reporting: On occasion.

Total Burden Hours: 15.

Rural Utilities Service

Title: Review Rating Summary.

OMB Control Number: 0572-0025.

Summary of Collection: The Rural Utilities Service (RUS) manages loan programs in accordance with the Rural Electrification Act (RE Act) of 1936, 7 U.S.C. 901 et seq., as amended. An important part of safeguarding loan security is to see that RUS financed facilities are being responsible used, adequately operated, and adequately maintained. Future needs have to be anticipated to ensure that facilities will continue to produce revenue and that loans will be repaid as required by the RUS mortgage. RUS will collect information using form 300 Review Rate Summary.

Need and Use of the Information: RUS will collect information to identity items that may be in need of additional attention; to plan corrective actions when needed; to budget funds and manpower for needed work; and to initiate ongoing programs as necessary to avoid or minimize the need for “catch-up” programs.

Description of Respondents: Not-for-profit institutions; Business or other for-profit;

Number of Respondents: 253.

Frequency of Responses: Reporting: On occasion; other (once every 3 years).

Total Burden Hours: 1,012.

Rural Housing Service

Title: 7 CFR 1951-E, “Servicing of Community and Direct Business Programs Loans and Grants”.

OMB Control Number: 0575-0066.

Summary of Collection: Rural Development (including Farm Credit Programs of the Farm Service Agency), hereinafter referred to as Agency, is the credit agency for agricultural and rural development for the Department of Agriculture. The Agency offers supervised credit to build and operate family farms, modest housing, water and sewer systems, essential community facilities, and business and industrial operations in rural areas. Section 331 and 335 of the Consolidated Farm and Rural Development Act, as amended, authorize the Secretary of Agriculture, acting through the Agency, to establish provisions for security servicing policies for the loans and grants questions. If there is a problem which exits, a recipient of the loan, grant, or loan guarantee must furnish financial information which is used to aid in resolving the problem through reamortization, sale, transfer, debt restructuring, liquidation, or other means provided in the regulations. The Rural Housing Service (RHS) will collect information using forms RD 1951-15 and 1951-33.

Need and Use of the Information: RHS will collect information to determine applicant/borrower eligibility and project feasibility for various servicing actions. The information enables field staff to ensure that borrowers operate on a sound basis and use loan and grant funds for authorized purposes.

Description of Respondents: State, Local or Tribal Government; not-for-profit institutions.

Number of Respondents: 78.

Frequency of Respondents: Reporting: On occasion.

Total Burden Hours: 118.

Forest Service

Title: Bid For Advertised Timber.

OMB Control Number: 0596-0066.

Summary of Collection: Individuals, large and small businesses, and corporations who wish to purchase timber of forest products from the National Forest must enter into a timber sale contract or Forest product contract with the Forest Service (FS). Information must be collected by FS in order to ensure that: National Forest System timber is sold at not less than appraised value; bidders meet specific criteria when submitting a bid; and anti-trust violations do not occur during the bidding process. Several statutes, regulations, and policies impose requirements on the Government and purchases in the bidding process. The FS will collect information using forms FS-2400-42a and FS-2400-14.

Need and Use of the Information: FS will collect information to determine bid responsiveness. The sale officer will ensure: the bidder has signed the bid form; provided a tax identification number; completed the unit rate, weighed average, or total sale value bid; entered the bid guarantee amount, type, and ensure the bid guarantee is enclosed with the bid, the bidder has provided the required information concerning Small Business Administration size and Equal Opportunity compliance on previous sale. The Timber Sale Contracting Officers will use the information to complete the contract prior to award to the highest bidder. Failure to include the required information may result in the bid being declared non-responsive or the Contracting Officer may be unable to make an affirmative finding of purchaser responsibility and not able to award the contract.

Description of Respondents: Business or other for-profit; individuals or households.

Number of Respondents: 5,500.

Frequency of Responses: Reporting: On occasion.

Total Burden Hours: 38,672.

Farm Service Agency

Title: End-Use Certificate Program.

OMB Control Number: 0560-0151.

Summary of Collection: Public Law 103-181, Section 321(f) of the North American Free Trade Agreement Implementation Act mandates that the Secretary of Agriculture shall implement, in coordination with the Commissioner of Customs, a program requiring that end-use certificates be included in the documentation covering the entry into the United States of any wheat originating from Canada.

Need and Use of the Information: The end-use certificate program was designed to ensure that Canadian wheat does not benefit from USDA or CCC-assisted export program. The information collected on the end-use certificate is used in conjunction with USDA's domestic origin compliance review process during quarterly audits of contractors involved in foreign food assistance programs. The form FSA-750 “End-Use Certificate for Wheat” is used by approximately 200 importers of Canadian wheat to report entry into the United States. Approximately 225 millers, exporters, and other users of Canadian wheat to report final disposition of Canadian wheat in the United States use the FSA-751 “Wheat Consumption and Resale Report”.

Description of Respondents: Business or other for-profit farms.

Number of Respondents: 421.

Frequency of Responses: Reporting: On occasion; quarterly.

Total Burden Hours: 4,520.

William McAndrew,
Departmental Clearance Officer.

[FR Doc. 00-4765 Filed 2-28-00; 8:45 am]

BILLING CODE 3410-01-M